ENVIRONMENTAL PROTECTION AGENCY

[EPA-HQ-OPPT-2015-0181; FRL-9925-39]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from February 2, 2015 to February 27, 2015.

DATES: Comments identified by the specific PMN number or TME number, must be received on or before May 4, 2015.

ADDRESSES: Submit your comments, identified by docket identification (ID) number EPA-HQ-OPPT-2015-0181, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW., Washington, DC 20460-0001; telephone number: (202) 564-8593; email address: Rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from February 2, 2015 to February 27, 2015, and consists of the PMNs and TMEs both pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—50 PMNs Received From 02/02/2015 to 02/27/2015
Case No. | Received date | Projected notice end date | Manufacturer/ Importer | Use | Chemical
P-15-0264 | 2/2/2015 | 5/3/2015 | CBI | (G) Printing additive | (G) Carbomonocyclic dicarboxylic acid, polymer with alkanedioic acids, alkanediol, substituted heteropolycycle, alkanedioic acid, alkanediol, substituted carbomonocycle, alkyl alkenoate, alkanediols and alkenoic acid, alkyl ester, alkanoate, alkyl peroxide-initiated.
P-15-0265 | 2/2/2015 | 5/3/2015 | CBI | (G) Printing additive | (G) Carbomonocyclic dicarboxylic acid, polymer with alkanedioic acids, alkanediol, substituted heteropolycycle, alkanedioic acid, alkanediol, substituted carbomonocycle, alkyl alkanoate, alkanedioic acid, alkanediols and alkanoic acid, alkyl ester, alkanoate, alkyl peroxide-initiated.
P-15-0266 | 2/2/2015 | 5/3/2015 | CBI | (S) Oligomer in pigment paste to be used in ultra-violet (uv)-curable printing inks | (G) Propoxylated triol triacrylate, polymer with alkanolamine.
P-15-0267 | 2/2/2015 | 5/3/2015 | CBI | (G) Pesticide additive | (G) Substituted quinoline derivative.
P-15-0268 | 2/2/2015 | 5/3/2015 | CBI | (G) Additive used in inks | (G) Alkyl alkenoic acid, polymer with substituted alkyl alkenoate and alkyl alkenoate, reaction products with polyalkylene glycol substituted alkyl ether.
P-15-0269 | 2/2/2015 | 5/3/2015 | CBI | (G) Component of ink | (G) Substituted carbomonocycle, (alkylidene)bis-, polymer with haloalkyl heteromonocycle and alkylidene)bis(substituted carbomonocycle)]-bis[heteromonocycle], reaction products with carbon dioxide.
P-15-0271 | 2/3/2015 | 5/4/2015 | CBI | (G) Adhesive | (G) Urethane resin.
P-15-0272 | 2/3/2015 | 5/4/2015 | Huntsman | (G) Resin | (G) Formaldehyde, reaction products with aniline and aromatic mono- and di-phenol mixture.
P-15-0273 | 2/3/2015 | 5/4/2015 | CBI | (G) Component of cleaning agent | (G) Disaccharide containing glycolipids.
P-15-0274 | 2/4/2015 | 5/5/2015 | CBI | (G) Binder resin Open non-dispersive use | (G) Vinyl polymer.
P-15-0276 | 2/5/2015 | 5/6/2015 | CBI | (S) Thin film for electronic device applications | (G) Functionalized Carbon Nanotubes.
P-15-0277 | 2/5/2015 | 5/6/2015 | KURARAY America, Inc. | (G) A solvent used in air fresheners | (S) 1,3-Butanediol, 3-methyl-, acetate.
P-15-0278 | 2/6/2015 | 5/7/2015 | CBI | (G) Crosslinker | (G) Encapsulated IPDI.
P-15-0279 | 2/6/2015 | 5/7/2015 | CBI | (S) Raw material for highly heat resistant plastic | (S) 1-Octanamine, 7 (or 8)-(aminomethyl)-*
P-15-0280 | 2/11/2015 | 5/12/2015 | Industrial Speciality Chemicals | (G) This material will be used in conjunction with current chemistries for wastewater treatment. | (G) Cationized starch; alkyl quat; bolaform.
P-15-0281 | 2/11/2015 | 5/12/2015 | Allnex USA Inc. | (S) Backbone resin to provide film building characteristics | (G) Alkyl substituted alkanoic acid, polymer with substituted carbomonocycle, alkyl substituted alkenoate, alkanediol mono-alkyl substituted alkenoate and alkenoic acid, substituted alkyl ester, alkylperoxoate-initiated, compds. with alkylamino alkanol.
P-15-0282 | 2/13/2015 | 5/14/2015 | CBI | (G) To be used as an end cap on a polyurethane prepolymer | (G) Silane end capper.
P-15-0283 | 2/13/2015 | 5/14/2015 | CBI | (G) Component of printing ink | (G) Carbamic acid, N-octadecyl-,alkyl ester.
P-15-0284 | 2/16/2015 | 5/17/2015 | Ascend Performance Materials LLC | (G) Reactant | (G) Amine salt of organic acid.
P-15-0290 | 2/17/2015 | 5/18/2015 | CBI | (G) Pigment dispersant | (G) 2-Oxepanone, polymer with 2, diisocyanato and alkyl ester imidazole-alkyamine-blocked.
P-15-0291 | 2/17/2015 | 5/18/2015 | CBI | (S) Polyol resin blend with additives for polyurethane bside blends; reactant in the manufacture of polyurethane and polyisocyanurate rigid foams | (G) Aromatic polyester polyol.
P-15-0293 | 2/19/2015 | 5/20/2015 | CBI | (G) Polymer used in compounding, extrusion and injection | (G) Polyether block amides.
P-15-0294 | 2/19/2015 | 5/20/2015 | CBI | (G) Intermediate | (G) Hydrocarbon ester acrylate.
P-15-0295 | 2/19/2015 | 5/20/2015 | CBI | (G) Intermediate | (G) Hydrocarbon ester acrylate modified particle.
P-15-0296 | 2/19/2015 | 5/20/2015 | CBI | (G) Polymer | (G) Aminoheterocycle polymer with diisocyanatoalkane and alkylenebisisocyanatocycloalkane.
P-15-0298 | 2/20/2015 | 5/21/2015 | CBI | (G) Dispersant | (G) Polyitaconic acid.
P-15-0298 | 2/20/2015 | 5/21/2015 | CBI | (G) Home care | (G) Polyitaconic acid.
P-15-0298 | 2/20/2015 | 5/21/2015 | CBI | (G) Industrial | (G) Polyitaconic acid.
P-15-0298 | 2/20/2015 | 5/21/2015 | CBI | (G) Agricultural | (G) Polyitaconic acid.
P-15-0299 | 2/20/2015 | 5/21/2015 | CBI | (G) Agricultural | (G) Polyitaconic acid, potassium salt.
P-15-0300 | 2/20/2015 | 5/21/2015 | CBI | (G) Agricultural | (G) Polyitaconic acid, ammonium salt.
P-15-0301 | 2/20/2015 | 5/21/2015 | CBI | (G) Home care | (G) Polyitaconic acid, sodium zinc salt.
P-15-0302 | 2/20/2015 | 5/21/2015 | CBI | (G) Dispersant | (G) Polyitaconic acid, partially decarboxylated.
P-15-0303 | 2/19/2015 | 5/20/2015 | Firmenich Incorporated | (G) Polymer microscapsule used as a fragrance releaser in consumer products | (S) Cellulose, carboxymethyl ether, sodium salt, polymer with bis(isocyanatomethyl)benzene, 2,2-dimethoxyacetaldehyde, ethanedial, 2-ethyl-2-(hydroxymethyl)-1,3-propanediol, 2-oxoacetic acid, 1H-1,2,4-triazole-3,5-diamine and 1,3,5-triazine-2,4,6-triamine*
P-15-0305 | 2/20/2015 | 5/21/2015 | CBI | (G) Drilling chemical | (G) Aliphatic polyester.
P-15-0306 | 2/20/2015 | 5/21/2015 | CBI | (G) The product is a process intermediate used in the production of a final product. It is consumed during the reaction process of the final product at a single site. | (G) Phenol, 1, 1-dimethylalkyl derivatives.
P-15-0307 | 2/20/2015 | 5/21/2015 | CBI | (G) Polymer additive | (G) Substituted bis[phenol] polymer with substituted benzene.
P-15-0308 | 2/23/2015 | 5/24/2015 | CBI | (G) Component in base coat paint formulation | (G) Dicarboxylic acid, cycloaliphatic anhydride polymer with alkyldiol, hydroxy-[(oxoalkyl)oxy]alkyl ester.
P-15-0309 | 2/23/2015 | 5/24/2015 | Cardolite Corporation | (G) Cashew nutshell liquid based, solvent free, 100% Solids epoxy hardener for Higher solids epoxy formulations | (G) Cashew Nutshell liquid polymer with formaldehyde and amines.
P-15-0310 | 2/23/2015 | 5/24/2015 | Sasol Chemicals (USA) LLC | (S) Lubricant in special chain oils for conveyor belts | (S) 1,2,4-Benzenetricarboxylic acid, mixed decyl and octyl triesters*
P-15-0312 | 2/23/2015 | 5/24/2015 | CBI | (G) Intermediate | (G) Lignocellulosic pyrolysis oil polyol ester.
P-15-0313 | 2/23/2015 | 5/24/2015 | CBI | (G) Chemical Intermediate | (G) Alkoxylated lignocellulosic pyrolysis oil polyol ester.
P-15-0314 | 2/24/2015 | 5/25/2015 | CBI | (S) Polymer for use in automotive applications | (G) Methacrylate copolymer.
P-15-0315 | 2/23/2015 | 5/24/2015 | CBI | (S) Fuel | (G) Oil from waste solids.
P-15-0315 | 2/23/2015 | 5/24/2015 | CBI | (S) Chemical intermediate | (G) Oil from waste solids.
P-15-0316 | 2/24/2015 | 5/25/2015 | CBI | (G) Cashew nut shell liquid based high solids epoxy hardener of High Solids epoxy coating formulation | (G) Fatty acids, polymers with cashew nutshell liq and amines.
P-15-0317 | 2/24/2015 | 5/25/2015 | CBI | (G) Reactive polymer for industrial UV coatings & ink applications | (G) Alkane diacid polymer with ethoxy alkyl alcohol, aromatic diglycidyl resin and alkenoic acid.
P-15-0318 | 2/24/2015 | 5/25/2015 | Milliken Chemical—Dewey Plan | (S) Compatibilizing agent for polyolefins added via neat powder; compatibilizing agent for polyolefins added via masterbatch | (S) Benzene, 1,1′-(2,4-cyclopentadien-1-ylidenemethylene)bis-
P-15-0319 | 2/26/2015 | 5/27/2015 | CBI | (G) Intermediate for production of lubricant additive | (G) Butanedioic acid, 2-methylene-, dialkyl ester.
P-15-0320 | 2/27/2015 | 5/28/2015 | CBI | (S) Dielectric medium | (S) Propanenitrile, 2,3,3,3-tetrafluoro-2-(trifluoromethyl)-*
P-15-0321 | 2/27/2015 | 5/28/2015 | CBI | (G) Polyester intermediate | (G) Polyester polyol intermediate.

In Table II. of this unit, EPA provides the following information (to the extent that such information is not claimed as CBI) on the NOCs received by EPA during this period: The EPA case number assigned to the NOC, the date the NOC was received by EPA, the projected end date for EPA's review of the NOC, and chemical identity.

Table II—33 NOCs Received From 02/02/2015 to 02/27/2015
Case No. | Received date | Commencement notice end date | Chemical
P-15-0015 | 2/13/2015 | 1/14/2015 | (G) Substituted heteropolycycle-, polymer with a-hydro-W-hydroxypoly(oxy-1,4-butanediyl), compound with substituted aminoalkane.
P-14-0454 | 2/16/2015 | 1/19/2015 | (G) Polyurethane prepolymer.
P-14-0572 | 2/3/2015 | 1/26/2015 | (G) Acrylic acid, hydroxyalkyl esters polymer with diisocyanatoalkane.
P-15-0014 | 2/12/2015 | 1/26/2015 | (G) Copolymer of a substituted aromatic olefin and substituted acrylates.
P-13-0708 | 2/20/2015 | 1/27/2015 | (S) Zinc, bis(carbamodithioato-S,S')-, tetracoco alkyl derivs.*
P-14-0781 | 2/20/2015 | 1/30/2015 | (S) Methanaminium, N-[4-[[4-(dimethylamino)phenyl] phenylmethylene]- 2,5-cyclohexadien-1-ylidene]- N-methyl-, ethanedioate, ethanedioate (2:2:1)*
P-14-0011 | 2/27/2015 | 1/30/2015 | (G) Aliphatic polycarbonate diol.
P-14-0682 | 2/24/2015 | 1/31/2015 | (S) 1,2-Propanediol, 3-(2-propen-1-yloxy)-, polymer with .alpha.- hydro-.omega.- hydroxypoly(oxy-1,4- butanediyl) and 1,1'-methylenebis [4-isocyanatobenzene]*
P-15-0069 | 2/27/2015 | 1/31/2015 | (S) 2-Propenoic acid, 2-methyl-, polymer with butyl 2-methyl-2-propenoate and phenylmethyl 2-methyl-2-propenoate*
P-14-0835 | 2/20/2015 | 2/2/2015 | (G) Alkyl carboxylic acid lithium salt.
P-14-0807 | 2/9/2015 | 2/6/2015 | (G) Aromatic diacid polymer with alkyl diacid, cycloalkyl dimethanol, alkyl diisocyanate, hydroxyalkyl acrylate blocked alkyl diisocyanate homopolymer, dihydroxyalkanoic acid, alkanediol, alkali metal salt, dialkanolamine-and-hydroxyalkyl acrylate-and-polyalkyl glycol monoalkyl ether blocked.
P-15-0032 | 2/9/2015 | 2/6/2015 | (G) Substituted propanoic acid, (2s)-, compds. with hydrolyzed (2-oxiranylmethyl)-(2-oxiranylmethoxy)poly(oxy-1,4-butanediyl)-polypropylene glycol diamine polymer-2-[[(trisubstituted silyl)propoxy]methyl]oxirane reaction products.
P-14-0661 | 2/24/2015 | 2/6/2015 | (G) Water dispersible polyester and polycarbonate polyol based polyurethane urea resin.
P-13-0290 | 2/10/2015 | 2/8/2015 | (G) Copolymer of alkyl methacrylate and substituted amino alkyl methacrylate.
P-12-0108 | 1/27/2015 | 2/9/2015 | (S) 9-Octadecanoic acid (9z)-, sulfonated, oxidized*
P-12-0109 | 1/27/2015 | 2/9/2015 | (S) 9-Octadecanoic acid (9z)-, sulfonated, oxidized, potassium salts*
P-12-0110 | 1/27/2015 | 2/9/2015 | (S) 9-Octadecanoic acid (9z)-, sulfonated, oxidized, sodium salts*
P-14-0476 | 2/25/2015 | 2/9/2015 | (S) Tricyclo[3.3.1.13,7]decan-1-amine, N,N-dimethyl-*
P-14-0718 | 3/3/2015 | 2/9/2015 | (G) Polyol.
P-13-0834 | 2/11/2014 | 2/10/2014 | (G) Polyalkoxylated polycyclic aromatic amine colorant.
P-13-0092 | 2/14/2014 | 2/10/2014 | (S) 2-Propenoic acid, 2-methyl-, polymers with 2-ethylhexyl acrylate, me methacrylate and polyethylene glycol hydrogen sulfate 1-[(C11-rich C10-14-branched alkyloxy)methyl]-2-(2-propen-1-yloxy)ethyl ethers ammonium salts*
P-14-0756 | 2/11/2015 | 2/10/2015 | (G) Substituted carboxamide.
P-13-0327 | 2/18/2014 | 2/11/2014 | (S) Castor oil, dehydrated, polymer with adipic acid, ethylenediamine, 1,6-hexanediol, 3-hydroxy-2-(hydroxymethyl)-2-methylpropanoic acid, and 1,1'-methylenebis[4-isocyanatocyclohexane], neopentyl glycol and polyethylene glycol 2,2-bi(hydroxymethyl)butyl me ether, compd. with triethylamine*
P-13-0138 | 2/24/2014 | 2/11/2014 | (S) Butanedioic acid, 2-(2-octen-1-yl)-, Potassium salt (1:2)*
P-13-0854 | 2/28/2014 | 2/11/2014 | (G) Zinc carboxylate salt.
P-13-0385 | 2/22/2015 | 2/11/2015 | (G) Vegitable oil modified aminopolyester
P-14-0870 | 2/13/2015 | 2/12/2015 | (G) Hexanedioic acid, polymer with alkyldiol, 1.6-hexanediol, dicarboxylic acid anhydride, 1,1'-methylenebis[4-isocyanatobenzene], alkylene oxides and .alpha., .alpha.', .alpha.”-1,2,3-propanetriyltris[.omega,-hydroxypoly[oxy(methyl-1,2-ethanediyl)]].
P-15-0082 | 2/23/2015 | 2/12/2015 | (G) Siloxanes and silicones, alkyl group-terminated, polymers with carboxylic acid and substituted carbopolycyclic ester.
P-15-0083 | 2/23/2015 | 2/12/2015 | (G) Siloxanes and silicones, dialkyl, substituted alkyl group-terminated, polymers with alkanediol, alkyldiisocyanate, dialkyl carbonate, substituted heteromonocycle, alkanediol, diamine, substituted alkylpropanoic acid, substituted trialkyl carbomonocycle, alkylene bis [substituted carbomonocycle] and substituted alkanediol, compounds, with trialkylamine.
P-07-0616 | 2/17/2015 | 2/13/2015 | (G) Fatty acid polymer with aliphatic diol and aromatic diacid.
P-14-0573 | 2/23/2015 | 2/17/2015 | (G) Polyurethane.
P-15-0066 | 2/27/2015 | 2/24/2015 | (G) Sulfonium, tris[4-[(alkylketophenyl)thio]phenyl]-(halophenyl)borate (1-) (1:1).
P-14-0587 | 2/4/2015 | 12/19/2014 | (G) Aminated acrylic polymer,

If you are interested in information that is not included in these tables, you may contact EPA as described in Unit III. to access additional non-CBI information that may be available.

Authority: 15 U.S.C. 2601 et seq.

Dated: March 26, 2015.
Chandler Sirmons,
Acting Director, Information Management Division, Office of Pollution Prevention and Toxics.

[FR Doc. 2015-07495 Filed 4-2-15; 8:45 am]

BILLING CODE 6560-50-P